DEPARTMENT OF COMMERCE

National Oceanic and Atmospheric Administration

50 CFR Part 648

[I.D. 101701A]

New England Fishery Management Council; Public Meeting

AGENCY: National Marine Fisheries Service (NMFS), National Oceanic and Atmospheric Administration (NOAA), Commerce.

ACTION: Public meeting.

SUMMARY: The New England Fishery Management Council (Council) will hold a 3-day Council meeting on November 6 through 8, 2001, to consider actions affecting New England fisheries in the exclusive economic zone (EEZ).

DATES: The meeting will be held on Tuesday, Wednesday, and Thursday, November 6, 7, and 8, 2001. The meeting will begin at 9 a.m. on Tuesday and 8:30 a.m. on Wednesday and Thursday.

ADDRESSES: The meeting will be held at the Tavern on the Harbor, 30 Western Avenue, Gloucester, MA 01930; telephone (978) 283-4200. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION:

Tuesday, November 6, 2001

Following introductions, the Council staff will present the 2001 Whiting Stock Assessment and Fishery Evaluation (SAFE) Report for small mesh multispecies, including Whiting Monitoring Committee recommendations concerning future management actions. The Scallop Committee will request approval of additional management alternatives to be included in draft Amendment 10 to the Atlantic Sea Scallop Fishery Management Plan (FMP) and analyzed in the Draft Supplemental Environmental Impact Statement (DSEIS). Primary issues include alternatives to manage limited access fishing effort and general category scallop vessels, minimize habitat and bycatch impacts, and address monitoring and data collection issues.

The afternoon session will include consideration and approval of a schedule of management actions for 2002. The Spiny Dogfish Committee will then seek approval of New England Council recommendations for spiny dogfish specifications for the 2002-2003 fishing year. Measures may include a Total Allowable Catch (TAC) quota, trip limits, and/or any other measures specified in the Spiny Dogfish FMP.

Wednesday, November 7, 2001

The meeting will reconvene with reports on recent activities from the Council Chairman and Executive Director, the NMFS Regional Administrator, Northeast Fisheries Science Center and Mid-Atlantic Fishery Management Council liaisons, NOAA General Counsel and representatives of the U.S. Coast Guard, NMFS Enforcement and the Atlantic States Marine Fisheries Commission. A brief period for general comments from the public concerning fisheries management issues will follow. The Multispecies Monitoring Committee (MSMC) will present an update on stock status and management alternatives to meet Northeast Multispecies FMP goals and objectives. During the Groundfish Committee Report, the Council will review scoping comments on the Notice of Intent for Framework Adjustment 36 to the Northeast Multispecies FMP. Measures in this action would be designed to reduce Gulf of Maine cod fishing mortality and discards, extend or change the Western Gulf of Maine closed area, change the area authorized for the northern shrimp fishery, and allow tuna purse seine vessels access to groundfish closed areas. The Council is considering the full range of measures for reducing Gulf of Maine cod fishing mortality, including changes to recreational fishing measures. In addition, because Framework 36 will address the Northeast multispecies annual adjustment process for the 2002 fishing year, the Council will also consider alternatives that may be necessary to meet the goals and objectives of the plan. The Framework 36 discussions will include opportunities for the public to comment. During this discussion, the Council also will review the MSMC-proposed management alternatives for achieving plan goals for possible inclusion in Framework Adjustment 36, as well as identify alternatives for analyses in the accompanying DSEIS.

Thursday, November 8, 2001

On the final day of the meeting, the agenda will include red crab and monkfish issues. During the Red Crab report, the Council intends to approve the Red Crab FMP DEIS (including possible identification of a preferred alternative) and public hearing document. Discussion will include review and approval of the Habitat Committee’s recommendations for the designation of red crab Essential Fish Habitat. There will be a presentation of the Monkfish SAFE Report for the 2000-2001 fishing year, including the recommendations of the Monkfish Monitoring Committee concerning management recommendations. The Council also intends to approve initial action on Framework Adjustment 1 to the Monkfish FMP (annual framework adjustment) to implement management measures for the 2002-2003 fishing year (Year 4 of the rebuilding program). Measures under consideration include, but are not limited to, no action, which would allow the Year 4 default measures to take effect; continue the Year 3 measures with adjustments to the gear-based trip limits to account for the recent federal court decision; or adjust Year 3 measures to achieve Year 3 target total allowable catch (TAC) levels. Any outstanding business will be addressed following this report.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

The New England Council will consider public comments at a minimum of two Council meetings before making recommendations to the National Marine Fisheries Service Regional Administrator on any framework adjustment to a fishery management plan. If the Regional Administrator concurs with the adjustment proposed by the Council, the Regional Administrator may publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: October 19, 2001.
Bruce C. Morehead,
Acting Director, Office of Sustainable Fisheries, National Marine Fisheries Service.

[FR Doc. 01-26781 Filed 10-19-01; 2:40 pm]

BILLING CODE 3510-22-S